GENERAL SERVICES ADMINISTRATION

[OMB Control No. 3090-0246]

General Services Administration Regulation; Information Collection; Packing List Clause

AGENCY: Office of the Chief Acquisition Officer, GSA.

ACTION: Notice of request for comments regarding a renewal to an existing OMB clearance.

SUMMARY: Under the provisions of the Paperwork Reduction Act of 1995 (44 U.S.C. Chapter 35), the General Services Administration will be submitting to the Office of Management and Budget (OMB) a request to review and approve a renewal of a currently approved information collection requirement regarding packing list clause.

Public comments are particularly invited on: Whether this collection of information is necessary and whether it will have practical utility; whether our estimate of the public burden of this collection of information is accurate, and based on valid assumptions and methodology; ways to enhance the quality, utility, and clarity of the information to be collected.

DATES: Submit comments on or before: January 28, 2005.

FOR FURTHER INFORMATION CONTACT: Michael O. Jackson, Procurement Analyst, Office of the Deputy Chief Acquisition Officer, Room 4032, by telephone (202) 208-4949 or via email at michaelo.jackson@gsa.gov.

ADDRESSES: Submit comments regarding this burden estimate or any other aspect of this collection of information, including suggestions for reducing this burden to the Regulatory Secretariat (V), General Services Administration, Room 4035, 1800 F Street, NW., Washington, DC 20405. Please cite OMB Control No. 3090-0246, Packing List Clause, in all correspondence.

SUPPLEMENTARY INFORMATION:

A. Purpose

GSAR clause 552.211-77 requires a contractor to include a packing list that verifies placement of an order and identifies the items shipped. In addition to information contractors would normally include on packing lists, the identification of cardholder name, telephone number and the term “Credit Card” is required.

B. Annual Reporting Burden

Respondents: 4000

Responses Per Respondent: 233

Hours Per Response: .00833

Total Burden Hours: 7757

Obtaining Copies of Proposals: Requesters may obtain a copy of the information collection documents from the General Services Administration, Regulatory Secretariat (V), 1800 F Street, NW., Room 4035, Washington, DC 20405, telephone (202) 208-7312. Please cite OMB Control No. 3090-0246, Packing List Clause, in all correspondence.

Dated: November 22, 2004.
Laura Auletta,
Director, Contract Policy Division.

[FR Doc. 04-26325 Filed 11-26-04; 8:45 am]

BILLING CODE 6820-61-S